SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before August 27, 2024.

ADDRESSES: Send all comments to Peter Gorman, peter.gorman@sba.gov, Senior Product Manager, Office of the Administrator, Small Business Administration.

FOR FURTHER INFORMATION CONTACT: Peter Gorman, peter.gorman@sba.gov, (240) 962-9181. Curtis B. Rich, Agency Clearance Officer curtis.rich@sba.gov (202) 205-7030.

SUPPLEMENTARY INFORMATION: SBA is transforming how customers interact with the agency via the development of an online MySBA platform that will allow customers to see all their SBA products and services summarized in a single place. MySBA will also allow customers to quickly switch between existing and future SBA digital tools, like the MySBA Loan Portal and VetCert, with single credentials and one account. Finally, MySBA will highlight additional SBA products and services beneficial to them based on their customer or business information.

So the SBA can provide relevant information, customers may be asked to provide information that fall into three functional areas: Account Registration, Validation and Authentication, and Business Services.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number:

(1) Title: MySBA.

Description of Respondents: Current and potential customers of SBA programs.

Form Number: N/A.

Total Estimated Annual Respondents: 17,677,736 potential users.

Total Estimated Annual Responses per Respondent: 1.

Total Estimated Annual Hour Burden per Respondent: 2 minutes.

Total Estimated Annual Hour Burden per Respondent: 589,258 hours.

Curtis B. Rich,
Agency Clearance Officer.

[FR Doc. 2024-14194 Filed 6-27-24; 8:45 am]

BILLING CODE 8026-09-P